DEPARTMENT OF COMMERCE

[Docket No. 010925233-2253-02]

Department of Commerce Pre-Award Notification Requirements for Grants and Cooperative Agreements

AGENCY: Department of Commerce (DoC).

ACTION: Notice.

SUMMARY: The notice amends the Department of Commerce Pre-Award Notification Requirements for Grants and Cooperative Agreements. On October 1, 2001, the Department of Commerce (DoC) announced in the Federal Register (66 FR 49917) Department-wide requirements which pertain to information provided to applicants for funding under grants and cooperative agreements awarded by DoC.

DATES: This amendment is effective October 30, 2002.

FOR FURTHER INFORMATION CONTACT: Elizabeth Dorfman, Office of Executive Assistance Management, Telephone Number—202-482-4115.

SUPPLEMENTARY INFORMATION: The DoC is amending the Department of Commerce Pre-Award Notification Requirements for Grants and Cooperative Agreements which was published in the Federal Register on October 1, 2001. This amendment updates provisions for review and approval of indirect cost rate proposals for those organizations for which DoC is cognizant or has oversight. In January 2002, the U. S. General Accounting Office issued Amendment No. 3, Independence, to the Government Auditing Standards. These new standards do not allow our Office of Inspector General to continue to perform these services, therefore, the Office of Executive Budgeting and Assistance Management, which is organizationally located under the DoC Chief Financial Officer and Assistant Secretary for Administration, will be responsible for the review of cost allocation procedures and negotiation of indirect cost rates for those organizations for which DoC is cognizant or has oversight. Therefore, DoC procedures for review, negotiation, and approval of indirect cost rates are being revised.

In the first column on page 49919, paragraph B.5.(c)(1) should be replaced with the following:

(1) For those organizations for which DoC is cognizant or has oversight, DoC or its designee either will negotiate a fixed rate for the recipient or, in some instances, will limit its review to evaluating the procedures described in the recipient's cost allocation methodology plan. Indirect cost rates and cost allocation methodology reviews are subject to future audits to determine actual indirect costs. Within 90 days of the award start date, the recipient shall submit to the address listed below documentation (indirect cost proposal, cost allocation plan, etc.) necessary to perform the review. The recipient shall provide the Grants Officer with a copy of the transmittal letter. Office of Executive Assistance Management, Department of Commerce, 14th Street and Constitution Avenue, NW., Room H-6022, Washington, DC 20230.

2. In the second column on page 49919, paragraph B.5.(c)(3) should be replaced with the following:

(3) If the recipient fails to submit the required documentation to DoC or other oversight or cognizant Federal agency within 90 days of the award start date, the Grants Officer may amend the award to preclude the recovery of any indirect costs under the award. If the DoC, oversight, or cognizant Federal agency determines there is a finding of good and sufficient cause to excuse the recipient's delay in submitting the documentation, an extension of the 90-day due date may be approved by the Grants Officer.

Classification Executive Order 12866

This notice has been determined to be “not significant” for purposes of Executive Order 12866, “Regulatory Planning and Review.”

Administrative Procedure Act and Regulatory Flexibility Act

Notice and comment are not required under the Administrative Procedure Act (5 U.S.C. 553), or any other law, for this notice relating to public property, loans, grants, benefits, or contracts (5 U.SC. 553(a)). Because notice and comment are not required for this notice, the analytical requirements of the Regulatory Flexibility Act, 5 U.S.C. 601 et seq., are not required and has not been prepared for this notice.

Executive Order 13132 (Federalism)

It has been determined that this notice does not contain policies with Federalism implications as that term is defined in Executive Order 13132.

Paperwork Reduction Act

This action does not impose any new reporting or recordkeeping requirements under the Paperwork Reduction Act. Notwithstanding any other provisions of the law, no person is required to respond to, nor shall any person be subject to a penalty for failure to comply with a collection-of-information, subject to the requirements of the Paperwork Reduction Act (PRA), 44 U.S.C. 3501 et seq., unless that collection of information displays a currently valid Office of Management and Budget (OMB) control number.

List of Subjects

Accounting, Administrative practice and procedures, Grants administration, Grant programs-economic development, Grant programs-oceans, atmosphere and fisheries management, Grant programs-minority businesses, Grant programs-technology, Grant programs-telecommunications, Grant programs-international, Reporting and recordkeeping requirements.

Issued this 22nd day of October, 2002, in Washington, DC.
Robert F. Kugelman,
Director, Office of Executive Budgeting and Assistance Management.

[FR Doc. 02-27546 Filed 10-29-02; 8:45 am]

BILLING CODE 3510-BW-P